FEDERAL MINE SAFETY AND HEALTH REVIEW COMMISSION

[BAC 6735-01]

Sunshine Act Notice

September 29, 2015.

TIME AND DATE: 2:00 p.m., Thursday, October 8, 2015.

PLACE: The Richard V. Backley Hearing Room, Room 511N, 1331 Pennsylvania Avenue NW., Washington, DC 20004 (enter from F Street entrance).

STATUS: Open.

MATTERS TO BE CONSIDERED: The Commission will consider and act upon the following in open session: Secretary of Labor v. Hopkins County Coal, LLC, Docket Nos. KENT 2009-820-R, et al. (Issues include whether the Administrative Law Judge erred in concluding that MSHA was authorized to gain access to certain personnel records as part of a discrimination investigation without obtaining a warrant.)

Any person attending this meeting who requires special accessibility features and/or auxiliary aids, such as sign language interpreters, must inform the Commission in advance of those needs. Subject to 29 CFR 2706.150(a)(3) and 2706.160(d).

CONTACT PERSON FOR MORE INFO: Emogene Johnson (202) 434-9935/(202) 708-9300 for TDD Relay/1-800-877-8339 for toll free.

Sarah L. Stewart,
Deputy General Counsel.

[FR Doc. 2015-25077 Filed 9-29-15; 4:15 pm]

BILLING CODE 6735-01-P